DEPARTMENT OF ENERGY

Federal Energy Regulatory Commission

[Project No. 14344-000]

The International Consortium of Energy Managers; Notice of Preliminary Permit Application Accepted for Filing and Soliciting Comments, Motions To Intervene, and Competing Applications

On January 6, 2012, The International Consortium of Energy Managers filed an application, pursuant to section 4(f) of the Federal Power Act (FPA), proposing to study the feasibility of the Blue Diamond Pumped Storage Project to be located in Clark County, Nevada. The proposed project would be closed loop and would not be located on any existing water body. The sole purpose of a preliminary permit, if issued, is to grant the permit holder priority to file a license application during the permit term. A preliminary permit does not authorize the permit holder to perform any land-disturbing activities or otherwise enter upon lands or waters owned by others without the owners' express permission.

The proposed project would consist of the following: (1) A new embankment creating an upper reservoir with a maximum elevation of 4,810 feet above mean sea level (MSL), and a storage capacity of 4,900 acre-feet; (2) a new embankment creating a lower reservoir with a maximum elevation of 3,320 feet MSL, and a storage capacity of 4,900 acre-feet; (3) a 21-foot-diameter, 4,300-foot-long concrete and steel penstock; (4) a powerhouse containing two pump/turbine units with a total installed capacity of 450 megawatts; (5) a 132-kilovolt, 3.5-mile-long transmission line; and (6) appurtenant facilities. The proposed project would produce about 4,500 megawatt hours (MWh) of energy daily, and use about 5,600 MWh daily to pump water from the lower to the upper reservoir.

Applicant Contact: Rexford Wait, International Consortium of Energy Managers, 2416 Cades Way, Vista, CA 92083; (760) 599-0086.

FERC Contact: Jim Fargo; phone: (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14344) in the docket number field to access the document. For assistance, contact FERC Online Support.

Dated: February 8, 2012.
Kimberly D. Bose,
Secretary.

[FR Doc. 2012-3403 Filed 2-13-12; 8:45 am]

BILLING CODE 6717-01-P